FEDERAL COMMUNICATIONS COMMISSION

Sunshine Act Meeting

July 5, 2001.

Open Commission Meeting, Thursday, July 12, 2001

The Federal Communications Commission will hold an Open Meeting on the subjects listed below on Thursday, July 12, 2001, which is scheduled to commence at 9:30 a.m. in Room TW-C305, at 445 12th Street, SW., Washington, DC.

Item No., Bureau, and Subject

1—Common Carrier—Title: Deployment of Wireline Services Offering Advanced Telecommunications Capability (CC Docket No. 98-147). Summary: The Commission will consider a Fourth Report and Order concerning the collocation obligations of incumbent LECs.

2—Common Carrier—Title: Implementation of Further Streamlining Measures for Domestic Section 214 Authorizations. Summary: The Commission will consider a Declaratory Ruling and Notice of Proposed Rulemaking concerning streamlining the process for common carriers to gain authorization pursuant to Section 214 of the Communications Act of 1934, as amended, to transfer domestic interstate transmission lines through an acquisition of corporate control.

3—International—Title: Presentation on the Status of the U.S. International Services Market. Summary: The International Bureau will make a presentation detailing changes in the international services market over the past several years, and resulting decreases in consumer prices and increases in volume of calls and capacity.

Additional information concerning this meeting may be obtained from Maureen Pertino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netco.com. Their Internet address is http://www.itsdocs.com/.

This meeting can be viewed over George Mason University's Capitol Connection. The Capitol Connection also will carry the meeting live via the Internet. For information on these services call (703) 993-3100. The audio portion of the meeting will be broadcast live on the Internet via the FCC's Internet audio broadcast page at <http://www.fcc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Magalie Roman Salas,
Secretary.

[FR Doc. 01-17346 Filed 7-6-01; 2:16 pm]

BILLING CODE 6712-01-M